DEPARTMENT OF HEALTH AND HUMAN SERVICES

Administration for Children and Families

Submission for OMB Review; Unaccompanied Children (UC) Program Budget Workbook Template (New Collection)

AGENCY: Office of Refugee Resettlement, Administration for Children and Families, HHS.

ACTION: Request for public comment.

SUMMARY: The Administration for Children and Families' (ACF) Office of Refugee Resettlement (ORR) is requesting clearance for the proposed new collection titled “UC Program Budget Workbook” to streamline budget details and justifications of applicants to funding opportunities.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The UC Program Budget Workbook will streamline the budget detail and justification documentation for applicants to any upcoming Notice of Funding Opportunity (NOFO). This new information collection will provide guidance to the applicant as well as a fillable form to insert calculations and budget line items. With the assistance of this template, the review of applications will be expedited since documentation will be clearer and more unified. Additionally, this will facilitate the completion of applications that may not otherwise be completed due to lack of budget documentation guidance in past NOFOs.

Respondents: New and existing applicants to NOFOs for residential services for UC.

Annual Burden Estimates
Instrument | Total number of respondents | Total number of responses per respondent | Average burden hours per response | Total burden hours | Annual burden hours
UC Program Budget Form | 120 | 3 | 90 | 32,400 | 10,800

Estimated Total Annual Burden Hours: 10,800.

Authority: 8 U.S.C. 1522 of the Immigration and Nationality Act (the Act) (Title IV, Sec. 412 of the Act) and 45 CFR 400.28(b).

Mary B. Jones,
ACF/OPRE Certifying Officer.

[FR Doc. 2021-27767 Filed 12-21-21; 8:45 am]

BILLING CODE 4184-45-P